ENVIRONMENTAL PROTECTION AGENCY

[EPA-HQ-OPP-2010-0014; FRL-8839-9]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a January 26, 2010 Federal Register Notice of Receipt of Requests from the registrants listed in Table 2 of Unit II. to voluntarily cancel these product registrations. In the January 26, 2010 notice, EPA indicated that it would issue an order implementing the cancellations, unless the Agency received substantive comments within the 180-day comment period that would merit its further review of these requests, or unless the registrants withdrew their requests. The Agency did not receive any comments on the notice. Further, the Agency received notice from a registrant to withdraw one cancellation request. Accordingly, EPA hereby issues in this notice a cancellation order granting the requested cancellations. Any distribution, sale, or use of the products subject to this cancellation order is permitted only in accordance with the terms of this order, including any existing stocks provisions.

DATES: The cancellations are effective August 11, 2010.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellation, as requested by registrants, of 33 products registered under FIFRA section 3. These registrations are listed in sequence by registration number in Table 1 of this unit.

Table 1.—Product Cancellations
Registration No. | Product Name | Chemical Name
000004-00315 | Bonide Liquid Rotenone Pyrethrins Spray | Pyrethrins Rotenone
000279-03404 | Intruder II | Pyrethrins Piperonyl butoxide Cyfluthrin
000655-00079 | Prentox 25% Malathion Dust Concentrate | Malathion
000703-00001 | Buchach Insect Powder | Pyrethrins
002517-00028 | Geisler No Mite Spray | Piperonyl butoxide Pyrethrins MGK 264
002517-00047 | Sergeant's Skip-Flea Shampoo for Dogs | Piperonyl butoxide
002517-00055 | Sergeant's Rug Patrol Carpet Insecticide and Freshener Formula B | Piperonyl butoxide
002517-00069 | Sergeant's Multipurpose Flea and Tick Killer I | Piperonyl butoxide Pyrethrins Permethrin
002517-00072 | Sergeant's Flea and Tick Powder with Pyrethrins | Piperonyl butoxide Pyrethrins Permethrin
002517-00073 | Sergeant's Flea and Tick Powder with Permethrin | Piperonyl butoxide Permethrin
002517-00075 | Sergeants X-term Fogger with Nylar | Pyrethrins Permethrin MGK 264 Pyriproxifen
002517-00079 | SPI # 8325 | Piperonyl butoxide Permethrin
002517-00106 | Ultra-Sect IGR Flea and Tick Mist | Piperonyl butoxide Pyrethrins MGK 264
002517-00121 | Zema Flea and Tick Dip | Piperonyl butoxide Pyrethrins
004822-00145 | Johnson Yard Master Foam Vegetable Garden Insect Killer | Pyrethrins
004822-00155 | Product 29 Garden Insect Killer | Pyrethrins
004822-00311 | Pyrethrum Extract 25 | Pyrethrins
004822-00460 | Whitmire Residual Flea and Tick Spray for Dogs and Cats | Pyrethrins Permethrin
004822-00461 | Whitmire Residual Pressurized Flea and Tick Spray | Pyrethrins Permethrin
007405-00070 | Chemi-Cap Total Release Insect Fogger | Pyrethrins MGK 264 Permethrin
008536-00033 | Thermal Fogging Insecticide Type M | Piperonyl butoxide Pyrethrins MGK 264
008536-00036 | Cardinal 25-5 Insecticide | Piperonyl butoxide Pyrethrins
008536-00037 | Cardinal Food Plant Concentrate Fogging Insecticide | Piperonyl butoxide Pyrethrins
008536-00038 | Cardinal 1-2-3 Insecticide | Piperonyl butoxide Pyrethrins MGK 264
008536-00039 | Cardinal 3-6-10 Insecticide | Piperonyl butoxide Pyrethrins MGK 264
008660-00254 | Permethrin 0.5 Lawn Insect Control with Fertilizer | Permethrin
009816-00003 | Fiebing's Equilfend Flyspray for Horses | Piperonyl butoxide Pyrethrins Permethrin
010772-00011 | Ear-Rite Insecticidal Ear Wash for Dogs | Piperonyl butoxide Pyrethrins
010772-00016 | Lambert Kay Scented Flea and Tick Shampoo for Dogs, Cats and Ferrets | Piperonyl butoxide Pyrethrins
013799-00017 | Four Paws Flea and Tick Soap | Piperonyl butoxide Pyrethrins MGK 264
013799-00022 | Four Paws Mite and Lice Bird and Cage Spray | Piperonyl butoxide Pyrethrins
013799-00025 | Four Paws Magic Coat Super Plus | Piperonyl butoxide Pyrethrins MGK 264
035138-00074 | Aero Permethrin 25 | Permethrin

Table 2 of this unit includes the names and addresses of record for all registrants of the products in Table 1 of this unit, in sequence by EPA company number. This number corresponds to the first part of the EPA registration numbers of the products listed in Table 1 of this unit.

Table 2. —Registrants of Cancelled Products
EPA Co. Number | Company Name and Address
4 | Bonide Products, Inc. Agent Registrations By Design, Inc. PO Box 1019 Salem, VA 24153-3805
279 | FMC Corp. Agricultural Products Group 1735 Market St, RM 1978 Philadelphia, PA 19103
655 | Prentiss, INC. 3600 Mansell Rd, Suite 350 Alpharetta, GA 30022
703 | Buhach Company 14336 SE 84 CT Newcastle, WA 98059
2517 | Sergeant's Pet Care Products, Inc. 2625 South 158th Plaza Omaha, NE 68130-1703
4822 | S.C. Johnson and Son, Inc. 1525 Howe St. Racine, WI 53403
7405 | CP Aeroscience, Inc. P.O. BOX 667770 Pompano Beach, FL 33066
8536 | Soil Chemicals Corporation P.O, Box 782 Hollister, CA 95024
8660 | United Industries Corp. d/b/a Sylorr Plant Corp P.O, Box 14642 St. Louis, MO 63114-0642
9816 | Fiebing Company, Inc. P.O, Box 694 Milwaukee, WI 53201-0694
10772 | Church and Dwight Co. Inc. 469 North Harrison St. Princeton, NJ 08543-5297
13799 | Four Paws Products Ltd. 50 Wireless Boulevard Hauppauge, NY 11788
35138 | AeroChem 1396 Lee Lane Raymond, MS 39154

III. Summary of Public Comments Received and Agency Response to Comments

During the public comment period provided, EPA received no comments in response to the January 26, 2010 Federal Register notice announcing the Agency's receipt of the requests for voluntary cancellations of products listed in Table 1 of Unit II. The request for the voluntary cancellation of product 66330-220 was withdrawn by the registrant.

IV. Cancellation Order

Pursuant to FIFRA section 6(f), EPA hereby approves the requested cancellations of the registrations identified in Table 1 of Unit II. Accordingly, the Agency hereby orders that the product registrations identified in Table 1 of Unit II. are canceled. The effective date of the cancellations that are subject of this notice is August 11, 2010. Any distribution, sale, or use of existing stocks of the products identified in Table 1 of Unit II. in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of January 26, 2010 (75 FR 4072) (FRL-8808-2). The comment period closed on July 26, 2010.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until August 11, 2011, which is 1 year after the publication of the Cancellation Order in the Federal Register Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: August 2, 2010.
Richard P. Keigwin, Jr.
Director, Pesticide Re-evaluation Division, Office of Pesticide Programs.

[FR Doc. 2010-19575 Filed 8-10-10; 8:45 am]

BILLING CODE 6560-50-S